DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of October 20, 2018 through November 9, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely; AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services From a Foreign Country Path:

(i)(I) there has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,714 | NRG Energy, Inc., Homer City Generating Station, NRG Energy Services Group, LLC, etc | Homer City, PA | April 9, 2017.
93,845 | Boise Cascade Company, Wood Products Division | Elgin, OR | May 25, 2017.
94,045 | Roaring Spring Blank Book Company, Roaring Spring Paper Products Division | Martinsburg, PA | November 30, 2017.
94,117 | ArcelorMittal Plate LLC, Conshohocken Division, ArcelorMittal USA LLC, BSI Electrical, etc | Conshohocken, PA | May 6, 2018.
94,129 | MBC Ventures, Inc., Maryland Brush Company | Baltimore, MD | September 14, 2017.
94,210 | Emberex, Inc | Eugene, OR | October 5, 2017.

The following certifications have been issued. The requirements of Section 222(a)(2)(B) (Shift in Production or Services to a Foreign Country Path or Acquisition of Articles or Services from a Foreign Country Path) of the Trade Act have been met.

TA-W No. | Subject firm | Location | Impact date
94,008 | Advanced Motors & Drives, Nidec Motor Corporation, CPS Professionals, AP Professionals | East Syracuse, NY | July 25, 2017.
94,014 | Hewlett Packard Enterprise, HPE Hybrid IT—Storage Division | Fort Collins, CO | July 26, 2017.
94,043 | Afni, Inc., Universal Department | Tucson, AZ | August 6, 2017.
94,084 | Informa, Business Intelligence Division, iMoneyNet Statistics Group | Westborough, MA | August 22, 2017.
94,102 | HP Inc., Consumer PCs, Accessories, Displays & Services Division | Palo Alto, CA | August 28, 2017.
94,118 | Ciena Corporation | Spokane Valley, WA | September 10, 2017.
94,119 | Crystal Vision, LLC, Consolidated Data Services, Omnicom Group, Unisys | Irving, TX | September 10, 2017.
94,123 | Johnson Controls Fire Protection LP, Johnson Controls, SimplexGrinnell, Accounts Payable Team, Agile 1 | Westminster, MA | September 5, 2017.
94,125 | Static Control Components, Inc., Static Control Components Limited, Plant 10 | Sanford, NC | January 16, 2018.
94,125A | Static Control Components, Inc., Static Control Components Limited, Plant 1 | Sanford, NC | September 12, 2017.
94,125B | Static Control Components, Inc., Static Control Components Limited, Plant 2 | Sanford, NC | September 12, 2017.
94,125C | Static Control Components, Inc., Static Control Components Limited, Plant 7 | Sanford, NC | September 12, 2017.
94,125D | Static Control Components, Inc., Static Control Components Limited, Plant 9 | Sanford, NC | September 12, 2017.
94,125E | Static Control Components, Inc., Static Control Components Limited, Plant 16 | Sanford, NC | September 12, 2017.
94,125F | Static Control Components, Inc., Static Control Components Limited, Plant 17 | Sanford, NC | September 12, 2017.
94,125G | Static Control Components, Inc., Static Control Components Limited, Plant 18 | Sanford, NC | September 12, 2017.
94,125H | Static Control Components, Inc., Static Control Components Limited, Plant 20 | Sanford, NC | September 12, 2017.
94,127 | Deluxe Media Inc., Deluxe Entertainment Services Group Inc., Deluxe Shared Services Inc., etc | Northvale, NJ | September 13, 2017.
94,128 | ELC Beauty, Point of Sale Center of Excellence, Estee Lauder Companies, Inc | New York, NY | September 10, 2017.
94,142 | Hewlett Packard Enterprise, Hewlett Packard Enterprise Pointnext Division, HP Inc | Palo Alto, CA | September 18, 2017.
94,166 | Payless ShoeSource Worldwide, Inc., Finance Department, Payless, Inc | Topeka, KS | September 25, 2017.
94,182 | Aalfs Manufacturing, Inc., Ropa Siete Leguas, Corporate Administrative Offices | Sioux City, IA | October 1, 2017.
94,183 | CSC Holdings, LLC, Call Center Workforce Management Division, Altice USA, Inc | Bethpage, NY | September 28, 2017.
94,185 | Catalina Marketing Corporation, Media Services Division, Account Managers, Senior Account Managers, etc | St. Petersburg, FL | October 1, 2017.
94,186 | MediaNews Group, Inc., DBA Digital First Media, MNG Enterprises, Inc., Shared Services, etc | Colorado Springs, CO | September 28, 2017.
94,187 | MBN (Middle East Broadcasting Networks) | Springfield, VA | September 28, 2017.
94,188 | Nokia of America Corporation, Nokia, Nokia Solutions & Networks LLC, Alcatel-Lucent USA | Naperville, IL | December 17, 2018.
94,194 | The Boeing Company El Paso Operations, The Boeing Company, Boeing Defense Space & Security Division, Moseley, etc | El Paso, TX | October 2, 2017.
94,214 | IQVIA Inc., Quintiles IMS, IQVIA Holdings Inc., Chief Information Office, etc | Chesapeake, VA | October 4, 2017.
94,219 | Capital One US Card Operations, Capital One Financial Corporation, Iconma LLC, Allied-Barton Security, etc | Lincoln, NE | October 9, 2017.
94,223 | Wacom Technology Services Company, Wacom Technology Corporation, Target CW (WMBE Payrolling, Inc.) | Portland, OR | October 9, 2017.
94,227 | Franke Kitchen Systems LLC, Franke Management AG, Kitchen Systems Division | Ruston, LA | October 12, 2017.
94,228 | Zodiac Pool Systems LLC, Aerotek | Vista, CA | May 17, 2018.
94,228A | Volt and Eastridge, Zodiac Pool Systems LLC | Vista, CA | October 11, 2017.
94,229 | CCS Medical, Inc., Wound Care Division, Kelly Services, Inc., HealthCare Support, etc | Farmers Branch, TX | October 12, 2017.
94,238 | Wilbrecht LEDCO, Inc | Huron, SD | October 15, 2017.
94,244 | Pitney Bowes Inc | Neenah, WI | October 16, 2017.
94,246 | CWD LLC, APC Automotive Technologies, PeopleNow | Carson, CA | October 17, 2017.
94,258 | Cantech Industries Inc., Intertape Polymer Group Inc., @Work Personnel, Staff Pro | Johnson City, TN | October 22, 2017.
94,272 | Harman International Industries, Inc., Samsung Electronics, Connected Car Division, Acro Service Corporation | Novi, MI | October 12, 2017.
94,275 | Circor Energy Products Inc., Circor International Inc., Energy Group Division, Onin Staffing, etc | Oklahoma City, OK | October 24, 2017.
94,279 | Harman International Industries, Inc., Samsung Electronics, Connected Car Division, Advantage Staffing, etc | Franklin, KY | October 11, 2018.
94,284 | Agfa Corporation, Agfa-Gevaert NV | Somerville, NJ | October 29, 2017.
94,293 | Key Safety Restraint Systems (KSRS), Joyson Safety Systems, Inc., Manpower and Surge Staffing | Greenville, AL | October 31, 2017.
94,312 | Dormakaba USA, Randstad | Lexington, KY | November 7, 2017.

The following certifications have been issued. The requirements of Section 222(b) (supplier to a firm whose workers are certified eligible to apply for TAA) of the Trade Act have been met.

TA-W No. | Subject firm | Location | Impact date
94,016 | Kelly Foundry and Machine Co | Elkins, WV | July 25, 2017.

The following certifications have been issued. The requirements of Section 222(e) (firms identified by the International Trade Commission) of the Trade Act have been met.

TA-W No. | Subject firm | Location | Impact date
93,748 | Milward Alloys Inc., Adecco Staffing | Lockport, NY | April 20, 2016.
94,023 | Murphy Plywood | Eugene, OR | December 27, 2016.
94,197 | Michigan Seamless Tube, LLS, Specialty Steel Works Inc | South Lyon, MI | January 30, 2017.

Negative Determinations For Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
94,097 | Apollo Medical, PC, Billing Department | Brooklyn, NY
94,122 | Synergistic Systems, Inc., Teachers Insurance and Annuity Association of America, Data Quality, etc | Denver, CO

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,113 | Drynachan, LLC dba Advance Health, Signify Health, LLC, Aerotek, Kelly Services, National Recruiters, etc | Herndon, VA

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,779 | The Boeing Company, Defense, Space, & Security Division, American CyberSystems (ACS), etc | Oklahoma City, OK
94,049 | C & D Zodiac, Inc., Cabin ZOII Division, Zodiac Aerospace, VOLT Workforce Solutions, etc | Santa Maria, CA
94,094 | LQ Management, LLC, La Quinta Intermediate Holdings, LLC | Irving, TX
94,104 | Orchard Supply Company, LLC, Southwest Barnes Road Location, Lowe's Companies, Inc | Beaverton, OR
94,104A | Orchard Supply Company, LLC, Southeast 10th Avenue Location, Lowe's Companies, Inc | Portland, OR
94,104B | Orchard Supply Company, LLC, Northeast Halsey Street Location, Lowe's Companies, Inc | Portland, OR
94,104C | Orchard Supply Company, LLC, Southwest Cascade Avenue Location, Lowe's Companies, Inc | Tigard, OR

Determinations Terminating Investigations of Petitions for Trade Adjustment Assistance

After notice of the petitions was published in the Federal Register and on the Department's website, as required by section 221 of the Act (19 U.S.C. 2271), the Department initiated investigations of these petitions.

The following determinations terminating investigations were issued because the worker group on whose behalf the petition was filed is covered under an existing certification.

TA-W No. | Subject firm | Location | Impact date
93,926 | Infinite Computer Solutions, Inc., International Business Machines (IBM) | Phoenix, AZ
94,017 | Aspen Insurance U.S. Services Inc | Rocky Hill, CT
94,017A | Aspen Insurance U.S. Services Inc | New York, NY
94,017B | Aspen Insurance U.S. Services Inc | Boston, MA
94,017C | Aspen Insurance U.S. Services Inc | Atlanta, GA
94,064 | Aerostructures Contract Employees, Chipton Ross, and Johnson Services Group, Triumph Aerostructures, Triumph Aerospace Structure Division, Triumph Group | Red Oak, TX
94,105 | Juniata Valley Occupational Health, GE Inspection Technologies, GE Oil & Gas | Lewistown, PA
94,174 | Rose International Inc., Suntrust Mortgage, Servicing Department | Richmond, VA

I hereby certify that the aforementioned determinations were issued during the period of October 20, 2018 through November 9, 2018. These determinations are available on the Department's website https://www.doleta.gov/tradeact/taa/taa_search_form.cfm under the searchable listing determinations or by calling the Office of Trade Adjustment Assistance toll free at 888-365-6822.

Signed at Washington, DC, this 15th day of November 2018.
Hope D. Kinglock,
Certifying Officer, Office of Trade Adjustment Assistance.

[FR Doc. 2018-27295 Filed 12-17-18; 8:45 am]

BILLING CODE 4510-FN-P